NUCLEAR REGULATORY COMMISSION

[Docket No. NRC-2013-0087]

Agency Information Collection Activities: Proposed Collection; Comment Request

AGENCY: Nuclear Regulatory Commission.

ACTION: Notice of pending NRC action to submit an information collection request to the Office of Management and Budget (OMB) and solicitation of public comment.

SUMMARY: The U.S. Nuclear Regulatory Commission (NRC) invites public comment about our intention to request the OMB's approval for renewal of an existing information collection that is summarized below. We are required to publish this notice in the Federal Register under the provisions of the Paperwork Reduction Act of 1995 (44 U.S.C. Chapter 35).

Information pertaining to the requirement to be submitted:

1. The title of the information collection: NRC Forms 366, 366A, and 366B, “Licensee Event Report.”

2. Current OMB approval number: 3150-0104.

3. How often the collection is required: As needed per Section 50.73 of Title 10 of the Code of Federal Regulations (10 CFR), “Licensee event report system.” The total number of reports is estimated to be 350 per year.

4. Who is required or asked to report: The holder of an operating license under 10 CFR Part 50 or a combined license under 10 CFR Part 52 (after the Commission has made the finding under § 52.103(g)).

5. The number of annual respondents: 104.

6. The number of hours needed annually to complete the requirement or request: 28,000 hours.

7. Abstract: Part of the NRC's function is to license and regulate the operation of commercial nuclear power plants to ensure protection of public health and safety and the environment in accordance with the Atomic Energy Act of 1954 (the Act) as amended. In order for the NRC to carry out these responsibilities, licensees must report significant events in accordance with 10 CFR 50.73, so that the NRC can evaluate the events to determine what actions, if any, are warranted to ensure protection of public health and safety or the environment. Section 50.73 requires reporting on NRC Forms 366, 366A, and 366B.

Submit, by August 2, 2013, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

The public may examine and have copied for a fee publicly available documents, including the draft supporting statement, at the NRC's Public Document Room, Room O-1F21, One White Flint North, 11555 Rockville Pike, Rockville, Maryland 20852. The OMB clearance requests are available at the NRC's Web site: http://www.nrc.gov/public-involve/doc-comment/omb/.

The document will be available on the NRC's home page site for 60 days after the signature date of this notice. Comments submitted in writing or in electronic form will be made available for public inspection. Because your comments will not be edited to remove any identifying or contact information, the NRC cautions you against including any information in your submission that you do not want to be publicly disclosed. Comments submitted should reference Docket No. NRC-2013-0087.

You may submit your comments by any of the following methods: Electronic comments: Go to http://www.regulations.gov and search for Docket No. NRC-2013-0087. Mail comments to the NRC Clearance Officer, Tremaine Donnell (T-5 F53), U.S. Nuclear Regulatory Commission, Washington, DC 20555-0001. Questions about the information collection requirements may be directed to the NRC Clearance Officer, Tremaine Donnell (T-5 F53), U.S. Nuclear Regulatory Commission, Washington, DC 20555-0001, by telephone at 301-415-6258, or by email to INFOCOLLECTS.Resource@NRC.GOV.

Dated at Rockville, Maryland, this 13th day of May 2013.
For the Nuclear Regulatory Commission.
Tremaine Donnell,
NRC Clearance Officer. Office of Information Services.

[FR Doc. 2013-13013 Filed 5-31-13; 8:45 am]

BILLING CODE 7590-01-P